NUCLEAR REGULATORY COMMISSION

[Docket No. 50-302]

Florida Power Corp.; Notice of Withdrawal of Environmental Assessment

The U.S. Nuclear Regulatory Commission (the Commission) has granted the request of Florida Power Corporation (the licensee) to withdraw its November 18, 2002, application for exemption for the Crystal River Nuclear Plant, Unit 3, located in Citrus County, Florida.

The proposed exemption would have allowed the licensed operator requalification examinations for Crystal River Unit 3 to be rescheduled due to a possible labor action.

The Commission had previously issued an Environmental Assessment and Finding of No Significant Impact published in the Federal Register on December 11, 2002 (67 FR 76198) for the proposed exemption as required by 10 CFR 51.21. However, by letter dated December 19, 2002, the licensee withdrew the proposed change. Therefore, the Commission is withdrawing its previously issued Environmental Assessment and Finding of No Significant Impact.

For further details with respect to this action, see the request for exemption dated November 18, 2002, and the licensee's letter dated December 19, 2002, which withdrew the request for exemption. Documents may be examined, and/or copied for a fee, at the NRC's Public Document Room (PDR), located at One White Flint North, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 27th day of January 2003.
For the Nuclear Regulatory Commission.
Matthew McConnell,
Acting Project Manager, Section 2, Project Directorate II, Division of Licensing Project Management, Office of Nuclear Reactor Regulation.

[FR Doc. 03-2308 Filed 1-30-03; 8:45 am]

BILLING CODE 7590-01-P